DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Post Allowance and Refiling.

Form Number(s): PTO/SB/44/50/51/51S/52/53/56/57/58 and PTOL-85B.

Agency Approval Number: 0651-0033.

Type of Request: Revision of a currently approved collection.

Burden: 63,635 hours annually.

Number of Respondents: 205,385 responses per year.

Avg. Hours Per Response: The USPTO estimates that it will take the public approximately 1.8 minutes (0.03 hours) to 2 hours to gather the necessary information, prepare the forms, and submit the completed request.

Needs and Uses: The USPTO is required by 35 U.S.C. 131 and 151 to examine applications and, when appropriate, allow applications and issue them as patents. The USPTO can also correct errors in patents, reissue patents as appropriate, and participate in reexamination proceedings initiated by the patent owner or by third parties. The public uses the information in this collection to request corrections in issued patents, to request reissue patents, to request reexamination proceedings, and to ensure that the necessary information and fees are submitted to the USPTO. The USPTO in turn reissues patents, determines whether the requested corrections can be made, and approves reexaminations. The USPTO is submitting this collection in support of a proposed rulemaking, “Changes to Support Implementation of the USPTO 21st Century Strategic Plan” (RIN 0651-AB64), which would allow the use of electronic signatures on documents and also eliminate the requirement to surrender a copy of the original patent in a reissue application. With the elimination of this requirement, the associated Form PTO/SB/55 is also being deleted.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, Data Administration Division, 703-308-7400, U.S. Patent and Trademark Office, P.O. Box 1450, Alexandria, VA 22313, Attn: CPK 3 Suite 310; or by e-mail at susan.brown@uspto.gov.

Written comments and recommendations for the proposed information collection should be sent on or before October 9, 2003 to David Rostker, OMB Desk Officer, Room 10202, New Executive Office Building, 725 17th Street NW., Washington, DC 20503.

Dated: September 2, 2003.
Susan K. Brown,
Records Officer, USPTO, Office of the Chief Information Officer, Office of Data Architecture and Services, Data Administration Division.

[FR Doc. 03-22880 Filed 9-8-03; 8:45 am]

BILLING CODE 3510-16-P